DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for the Regional Transportation Commission of Washoe County's (RTC's) Virginia Street Bus RAPID Transit Extension project in Washoe County, Nevada. The project includes construction of a 1.8-mile extension to its existing bus rapid transit service (the RAPID) operating in the Virginia Street corridor from its existing northern terminus at the 4th Street Station transfer terminal in Downtown Reno to the University of Nevada, Reno campus. The purpose of the project is to increase transit ridership and connectivity, enhance pedestrian safety, and improve accessibility to transit in the Virginia Street corridor. The purpose of this notice is to announce publicly the environmental decisions by FTA on the subject project and to activate the limitation on any claims that may challenge this final environmental action.

DATES: By this notice, FTA is advising the public of final agency actions subject to 23 U.S.C. 139(l). A claim seeking judicial review of FTA actions announced herein for the listed public transportation project will be barred unless the claim is filed on or before December 31, 2018.

FOR FURTHER INFORMATION CONTACT: Nancy-Ellen Zusman, Assistant Chief Counsel, Office of Chief Counsel, (312) 353-2577, or Alan Tabachnick, Environmental Protection Specialist, Office of Environmental Programs, (202) 366-8541. FTA is located at 1200 New Jersey Avenue SE, Washington, DC 20590. Office hours are from 9:00 a.m. to 5:00 p.m., Monday through Friday, except Federal holidays.

SUPPLEMENTARY INFORMATION: Notice is hereby given that FTA has taken final agency action by issuing a certain approval for the public transportation project listed below. The actions on the project, as well as the laws under which such actions were taken, are described in the documentation issued in connection with the project to comply with the National Environmental Policy Act (NEPA) and in other documents in the FTA administrative record for the project. Interested parties may contact either the project sponsor or the FTA Regional Office for more information. Contact information for FTA's Regional Offices may be found at https://www.fta.dot.gov.

This notice applies to all FTA decisions on the listed project as of the issuance date of this notice and all laws under which such actions were taken, including NEPA [42 U.S.C. 4321-4375], Section 4(f) requirements [23 U.S.C. 138, 49 U.S.C. 303], Section 106 of the National Historic Preservation Act [16 U.S.C. 470f], and the Clean Air Act [42 U.S.C. 7401-7671q]. This notice does not, however, alter or extend the limitation period for challenges of project decisions subject to previous notices published in the Federal Register. The project and action that is the subject of this notice follow:

Project name and location: The Regional Transportation Commission of Washoe County's (RTC's) Virginia Street Bus RAPID Transit Extension project in Washoe County, Nevada.

Project Sponsor: The Regional Transportation Commission of Washoe County's (RTC's). Project description: The project includes construction of a 1.8-mile extension to its existing bus rapid transit service (the RAPID) operating in the Virginia Street corridor from its existing northern terminus at the 4th Street Station transfer terminal in Downtown Reno to the University of Nevada, Reno campus. The purpose of the project is to increase transit ridership and connectivity, enhance pedestrian safety, and improve accessibility to transit in the Virginia Street corridor. The project includes building five new RAPID stations and replacing three bus shelters with full RAPID stations; acquiring right-of-way; and creating exclusive bus lanes, traffic signal priority at five intersections, off-board fare collection, level boarding, and real-time bus arrival information at stations. The project also includes purchasing two electric buses, constructing two roundabouts at intersections to improve bus turning movements and enhance traffic operations and safety, and improving sidewalk and cross walk infrastructure to enhance the pedestrian and bicycle network and visibility in the corridor. Finally, the project includes parking and access management, utility relocations and drainage improvements. The project was the subject of the Virginia Street Bus RAPID Transit Extension Project Environmental Assessment, dated June 2018.

Final agency actions: Section 4(f) determination, dated June 12, 2018; Section 106 of the NHPA finding of No Adverse Effect, dated March 17, 2017; project-level air quality conformity; and Finding of No Significant Impact (FONSI), dated June 15, 2018. Supporting documentation: The Virginia Street Bus RAPID Transit Extension Project Environmental Assessment in Washoe County, Nevada, dated June 2018.

Elizabeth S. Riklin,
Deputy Associate Administrator for Planning and Environment.

[FR Doc. 2018-16682 Filed 8-2-18; 8:45 am]

BILLING CODE P